DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: American Community Survey.

Form Number(s): ACS-1(2003), ACS-1(2003)PR(SP), ACS-1(GQ), ACS-3(GQ), ACS-4(GQ), ACS-290.

Agency Approval Number: 0607-0810.

Type of Request: Revision of a currently approved collection.

Burden: 1,927,300 hours.

Number of Respondents: 3,063,000.

Avg Hours Per Response: 38 minutes.

Needs and Uses: The U.S. Census Bureau requests authorization from the Office of Management and Budget (OMB) to conduct the American Community Survey (ACS) starting in November 2002. The Census Bureau has been developing a methodology to collect and update every year demographic, social, economic, and housing data that are essentially the same as the “long-form” data that the Census Bureau traditionally has collected once a decade as part of the decennial census. Federal and state government agencies use such data to evaluate and manage federal programs and to distribute funding for various programs which include food stamps, transportation dollars, and housing grants. State, county, and community governments, nonprofit organizations, businesses, and the general public use information like housing quality, income distribution, journey-to-work patterns, immigration data, and regional age distributions for decisionmaking and program evaluation.

Since the Census Bureau collects the long-form data only once every ten years, the data become out of date over the course of the decade. To provide more timely data, the Census Bureau developed an alternative called Continuous Measurement (CM). CM is a reengineering effort that blends the strength of small area estimation with the high quality of current surveys. We realize that there is an increasing need for data describing lower geographic detail. Currently, the decennial census is the only source of data available for small-area levels. In addition, there is an increase in interest in obtaining data for small subpopulations such as groups within the Hispanic, Asian, and American Indian populations, the elderly, and children. CM will provide current data throughout the decade for small areas and small subpopulations.

The ACS is the data collection vehicle for CM. After years of development and testing, the ACS is ready for full implementation in FY 2003. The ACS will provide more timely information for critical economic planning by governments and the private sector. In the current information-based economy, federal, state, tribal, and local decisionmakers, as well as private business and nongovernmental organizations, need current, reliable, and comparable socioeconomic data to chart the future. Without the ACS, data users will have to use data collected during Census 2000 for the next ten years.

The ACS demonstration period began in 1996 in four sites. In 1997, the survey was conducted in eight sites to evaluate costs, procedures, and new ways to use the information. In 1998, the ACS expanded to include two counties in South Carolina that overlapped with counties in the Census 2000 Dress Rehearsal. This approach allowed the Census Bureau to investigate the effects on both the ACS and the census due to having the two activities going on in the same place at the same time. In 1999, the number of sites was increased to 31 comparison sites. The purpose of the comparison sites was to give a good tract-by-tract comparison between the 1999-2002 ACS cumulated estimates and the Census 2000 long-form estimates and to use these comparisons to identify both the causes of differences and diagnostic variables that tend to predict a certain kind of difference.

In 2000-2002, the Census Bureau conducted the Census 2000 Supplementary Survey, the 2001 Supplementary Survey, and the 2002 Supplementary Survey using the ACS methodology. Each of these surveys had a sample of approximately 700,000 residential addresses per year. These surveys were conducted to study the operational feasibility of collecting long-form type data in a different methodology from the decennial census, demonstrate the reliability and stability of state and large area estimates over time, and demonstrate the usability of multiyear estimates.

Beginning in November 2002, the Census Bureau will begin full implementation of the ACS by increasing the sample to a total of 250,000 residential addresses per month in the 50 states and the District of Columbia. For 2003-2005, the ACS will have an annual sample of approximately 3 million households. In addition, we will select approximately 3,000 residential addresses per month in Puerto Rico and refer to the survey as the Puerto Rico Community Survey.

Affected Public: Individuals or households.

Frequency: The ACS is conducted monthly. Respondents are required to report only once.

Respondent's Obligation: Mandatory.

Legal Authority: Title 13 U.S.C., Sections 141, 193, and 221.

OMB Desk Officer: Susan Schechter, (202) 395-5103.

Copies of the above information collection proposal can be obtained by calling or writing Madeleine Clayton, Departmental Paperwork Clearance Officer, (202) 482-3129, Department of Commerce, room 6608, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: April 26, 2002.
Madeleine Clayton,
Departmental Paperwork Clearance Officer, Office of the Chief Information Officer.

[FR Doc. 02-10718 Filed 4-30-02; 8:45 am]

BILLING CODE 3510-07-P